DEPARTMENT OF THE INTERIOR

Bureau of Land Management

[AZ-040-00-1040-AE]

Meeting Cancellation; Gila Box Riparian National Conservation Area Advisory Committee

AGENCY: Bureau of Land Management.

ACTION: Notice of Meeting Cancellation.

SUMMARY: The purpose of this notice is to cancel the April 7 and 8, 2000 Gila Box Riparian National Conservation Area Advisory Committee Meeting. The purpose of the Advisory Committee is to provide informed advice to the Safford Field Office Manager on management of public lands in the Gila Box Riparian National Conservation Area. The committee meets as needed, generally between two and four times a year.

The meeting was to begin at the Bureau of Land Management, Safford Field Office on April 7, 2000 commencing at 8:00 am for the purpose of floating the Gila River within the Gila Box RNCA. However, due to the lack of snow pack and runoff into the Gila River, water levels are so low it will make floating of the river nearly impossible. A new meeting date for the Advisory Committee will be negotiated with the members of the committee in the near future, and posted in the Federal Register.

DATES: Meeting proposed on April 7, 2000 starting 8:00 am has been cancelled.

FOR FURTHER INFORMATION CONTACT: Jon Collins, Gila Box NCA Project Coordinator, Safford Field Office, 711 14th Ave., Safford AZ 85546, Telephone (520) 348-4400.

Dated: March 10, 2000.
Frank L. Rowley,
Acting Safford Field Office Manager.

[FR Doc. 00-6488 Filed 3-16-00; 8:45 am]

BILLING CODE 4310-32-M